Memorandum of September 20, 2010

Delegation of Waiver Authority Pursuant to Section 107(a) of Public Law 110-457

Memorandum for the Secretary of State

By the authority vested in me as President by the Constitution and the laws of the United States of America, including section 301 of title 3, United States Code, I hereby delegate to you the functions conferred upon the President by section 107(a) of the William Wilberforce Trafficking Victims Protection Reauthorization Act of 2008 (Public Law 110-457).

You are hereby authorized and directed to publish this memorandum in the Federal Register.

THE WHITE HOUSE,

WASHINGTON, September 20, 2010

[FR Doc. 2010-27677

Filed 10-29-10; 8:45 am]

Billing code 4710-10-P